DEPARTMENT OF TRANSPORTATION

Federal Railroad Administration

Environmental Impact Statement for the Long Bridge Project in Washington, DC

AGENCY: Federal Railroad Administration (FRA), U.S. Department of Transportation (DOT).

ACTION: Notice of intent (NOI) to prepare an environmental impact statement (EIS).

SUMMARY: FRA announces its intent to prepare an EIS for the Long Bridge Project jointly with the District Department of Transportation (DDOT). The Long Bridge Project (Proposed Action) consists of potential improvements to bridge and related railroad infrastructure located between the Virginia Railway Express (VRE) Crystal City Station in Arlington, Virginia and Control Point (CP) Virginia in Washington, DC. FRA and DDOT will develop the EIS in compliance with the National Environmental Policy Act of 1969 (NEPA), 42 U.S.C. 4321 et seq. FRA and DDOT invite the public and Federal, state, and local agencies to provide comments on the scope of the EIS, including the purpose and need; alternatives to analyze; environmental effects to consider and evaluate; methodologies to use for evaluating effects; and the approach for public and agency involvement.

DATES: Persons interested in providing written comments on the scope of the EIS (scoping comments) must do so by September 26, 2016. Please submit written comments via the methods specified below.

A public scoping meeting is scheduled on Wednesday, September 14, 2016, between 3:00 p.m. and 6:00 p.m. in Washington, DC. The meeting will be held at the L'Enfant Plaza Club Room, Promenade Level, 470 L'Enfant Plaza SW., Washington, DC 20024. Oral and written comments will be accepted at the September 14, 2016 meeting. The meeting facilities will be accessible to persons with disabilities. If special translation, signing services, or other special accommodations are needed, please email: info@longbridgeproject.com, or call 202-671-2829 at least one week prior to the meeting.

ADDRESSES: The public and other interested parties are encouraged to submit written scoping comments by mail, the Internet, email, or in person at the scoping meeting. Scoping comments can be mailed to the address identified in the “For Further Information Contact” paragraph below. Internet and email correspondence may be submitted through the Long Bridge Project Web site (http://longbridgeproject.com/) or at info@longbridgeproject.com.

FOR FURTHER INFORMATION CONTACT: Amanda Murphy, Environmental Protection Specialist, Office of Railroad Policy and Development, Federal Railroad Administration, 1200 New Jersey Avenue SE., (Mail Stop-20), Washington, DC 20590; telephone: (202) 493-0624.

SUPPLEMENTARY INFORMATION: FRA is an operating administration of DOT and is responsible for overseeing the safety of railroad operations, including the safety of any proposed rail ground transportation system. FRA is also authorized to provide, subject to appropriations, funding for intercity passenger and rail capital investments and to provide loans and other financial support for railroad investment. In 2016, FRA awarded DDOT a grant to prepare an EIS for the Proposed Action, and FRA may provide funding or financing for the rehabilitation or replacement of the Long Bridge in the future.

FRA is the lead Federal agency under NEPA; DDOT, as project sponsor, is a joint lead agency. FRA and DDOT will prepare the EIS consistent with NEPA, the Council on Environmental Quality Regulations for Implementing the Procedural Provisions of NEPA in 40 CFR parts 1500-1508; FRA's Procedures for Considering Environmental Impacts in 64 FR 28545, dated May 26, 1999; and 23 U.S.C. 139. After release and circulation of a Draft EIS for public comment, FRA will issue a single document consisting of the Final EIS and a Record of Decision under the Fixing America's Surface Transportation Act (Pub. L. 114-94, section 1304(n)(2)) unless it determines that statutory criteria or practicability considerations preclude issuing a combined document.

The EIS will also document compliance with other applicable Federal, state, and local environmental laws and regulations, including: section 106 of the National Historic Preservation Act; the Clean Water Act; section 4(f) of the Department of Transportation Act of 1966; the Endangered Species Act; Executive Order 11988 and USDOT Order 5650.2 on Floodplain Management; Executive Order 11990 on Protection of Wetlands; the Magnuson-Stevens Act related to Essential Fish Habitat; the Coastal Zone Management Act; and Executive Order 12898 on Environmental Justice.

Project Background

The current Long Bridge, dating from 1904, is owned and maintained by CSX Transportation (CSXT). It is the only freight railroad crossing over the Potomac River between the District of Columbia and the Commonwealth of Virginia. The two-track bridge serves CSXT freight trains, National Railroad Passenger Corporation (Amtrak) passenger rail trains, and VRE commuter rail trains. Norfolk-Southern (NS) has trackage rights on the bridge and connecting CSXT tracks but does not currently exercise those rights.

In 2011, DDOT received a High Speed Intercity Passenger Rail grant from FRA to complete a two-phase feasibility study of the rehabilitation or replacement of the Long Bridge. Long Bridge Study Phase I included a preliminary operations plan; visual inspection of the corridor; initial evaluation of existing and future capacity needs; and preliminary development of conceptual alternatives. Phase II of the Long Bridge Study developed a draft Purpose and Need Statement; developed a service plan based on future demand in the corridor; further refined conceptual alternatives; and defined evaluation criteria to screen and identify alternatives which will be carried forward for analysis. In 2016, DDOT received a Transportation Investment Generating Economic Recovery grant from FRA for the preparation of the Long Bridge EIS (Phase III).

The Long Bridge is located within the Washington Monumental Core. The EIS Study Area extends approximately 3.2 miles from the VRE Crystal City Station in Arlington, Virginia to CP Virginia located near Third Street SW., in Washington, DC. The EIS Study Area includes Federal park land managed by the National Park Service; historic and cultural properties; the Potomac River; offices, hotels, and apartment buildings; transportation facilities (VRE Crystal City Station, VRE L'Enfant Station, Long Bridge, eleven other railroad bridges, and four roadway bridges); and numerous pedestrian and bicycle trails.

Purpose and Need

The purpose of the Proposed Action is to address reliability and long-term railroad capacity issues for the Long Bridge corridor. The Proposed Action is needed to identify alternatives that would increase capacity to meet projected demand for passenger and freight rail services; improve operational flexibility and resiliency; and provide redundancy for this critical link in the local, regional, and national railroad network.

The need to make improvements to the Long Bridge corridor is noted in various studies. An Amtrak study in 1999 (Potential Improvements to the Washington Richmond Railroad Corridor) identifies the Washington Metropolitan Area, including the Long Bridge, as the most critical section of the Southeast High Speed Rail (SEHSR) corridor and stated the need for capacity improvements. Following the 1999 infrastructure study, FRA completed a Tier 1 EIS for the SEHSR corridor (May 2002). The Tier 1 EIS identified a Preferred Alternative that utilized the Richmond, Fredericksburg & Potomac rail corridor, which includes the Long Bridge. VRE's System Plan 2040 states that increasing the capacity at the Long Bridge is critical to its long-term growth and development. Additionally, the Metropolitan Washington Council of Governments' National Capital Region Freight Plan recommends a new rail bridge over the Potomac to minimize rail conflicts between passenger and freight trains.

Current and projected rail demand supports the need for capacity improvements to the Long Bridge corridor. Intercity passenger and commuter services operate at or close to capacity within the corridor during the morning peak hour, with eight passenger train movements scheduled in 60 minutes. Over the course of a full weekday, Amtrak and VRE currently operate 24 and 32 trains across the Long Bridge, respectively. CSXT freight trains operate approximately 18 through-freight trains each day on the same tracks used by the two passenger train operators.

Future rail demand during peak periods is forecasted to exceed the current capacity for Long Bridge. According to the service plan developed in Phase II of the Long Bridge Project, over the course of the full day, the number of trains crossing the bridge in 2040 is expected to increase to 44 trains for Amtrak, 92 for VRE, eight for the Maryland Area Regional Commuter (MARC); 42 for CSXT, and six for NS. The projected growth represents an average increase of over 100 percent in traffic on the bridge compared to 2015. The existing track infrastructure, which is limited by the two-track design of the Long Bridge, cannot support the increased demand.

The removal of additional rail capacity bottlenecks east and south of the Long Bridge, combined with population and employment growth in the Washington Metropolitan Area, increases the need for greater railroad capacity within the wider corridor. Attempting to serve future intercity passenger and freight rail demand solely on the current Long Bridge would not provide needed resiliency or redundancy within the Virginia to DC rail network. Limited capacity, coupled with shared-use infrastructure within the corridor, limits the flexibility of commuter, intercity passenger, and freight service to operate efficiently. These conditions create a systemic bottleneck that results in operational conflicts and delays, decreasing reliability and on-time performance of train operations. Currently, there are no reasonable detours to route rail traffic around the Long Bridge for maintenance or emergencies without extensive service delays.

This bottleneck limits efficient network connectivity for the rail operators within the Long Bridge corridor, including CSXT, VRE, Amtrak, and potentially MARC, and the overall transportation network. It also affects rail operations well beyond the limits of the Long Bridge corridor given the extensive reach of freight, commuter, and intercity passenger services along the eastern U.S. and beyond.

Proposed Alternatives To Consider

The EIS will consider a range of reasonable alternatives that FRA and DDOT will develop based on the purpose and need for the Proposed Action, information obtained through the scoping process, and previous reports. The 2015 Long Bridge Study Phase I identified concepts that are included in the initial range of alternatives to be considered in the EIS. FRA and DDOT will evaluate and screen the Phase I concepts and additional concepts during the NEPA process for elimination or further refinement. Alternatives will include the No-Build Alternative and Build Alternatives, including potential rehabilitation and/or replacement of the existing bridge.

Possible Effects

The EIS will analyze the potential direct, indirect, and cumulative effects of the alternatives on the social, economic, and environmental resources in the Study Area. Environmental resources include, but are not limited to:

• Transportation;

• Social and economic conditions;

• Property acquisition;

• Parks and recreational resources;

• Visual and aesthetic resources;

• Historic and archaeological resources;

• Air quality;

• Aquatic navigation;

• Greenhouse gas emissions and resilience;

• Noise and vibration;

• Ecology (including wetlands, water and sediment quality, floodplains, and biological resources);

• Threatened and endangered species;

• Contaminated materials; and

• Environmental Justice.

This analysis will include identification of study areas appropriate for each resource; documentation of the affected environment; and identification of measures to avoid and/or mitigate significant adverse impacts.

Scoping and Comments

This Notice initiates the scoping process under NEPA, which helps guide the development of the Draft EIS. The FRA and DDOT invite comments from the public and all interested parties regarding the scope of the EIS to ensure that relevant issues, applicable planning efforts, constraints, and reasonable alternatives are addressed early in the development of the EIS. FRA and DDOT will also directly contact appropriate Federal, state, and local agencies as well as and private organizations that have previously expressed or that are known to have an interest in the Proposed Action.

FRA and DDOT will coordinate with participating agencies during development of the Draft EIS under 23 U.S.C. 139. FRA will invite all agencies and Native American Tribes that may have an interest in the Proposed Action to become participating agencies for the EIS. If an agency or Native American Tribe is not invited and would like to participate, please contact FRA (“For Further Information Contact” section). The lead agencies will develop a Coordination Plan summarizing how the public and other agencies will be engaged in the process. The Coordination Plan will be posted to the Project Web site (http://longbridgeproject.com/) and to FRA's Web site (www.fra.dot.gov/Page/P0214).

Future Public Participation and Outreach

At various milestones during the development of the Long Bridge EIS, FRA and DDOT will provide additional opportunities for public and interested party consultation, such as public meetings, open houses, newsletters, and requests for comments/review of the EIS. Dates, times, and locations for public meetings and other opportunities for public participation will be announced through the Long Bridge Project Web site (http://longbridgeproject.com/), mailings, public notices, advertisements, and press releases.

Issued in Washington, DC, on August 19, 2016.
Felicia Young,
Acting Director, Office of Program Delivery.

[FR Doc. 2016-20481 Filed 8-25-16; 8:45 am]

BILLING CODE 4910-06-P